DEPARTMENT OF ENERGY

Federal Energy Regulatory Commission

[Docket Nos.CP98-131-006 and CP06-29-000]

Vector Pipeline L.P.; Notice of Application

December 12, 2005.

On November 30, 2005, in Docket No. CP06-29-000, Vector Pipeline L.P (Vector), pursuant to Natural Gas Act section 7(c) and Part 157 Subpart A of the Federal Energy Regulatory Commission's (Commission) regulations filed an application for a certificate of public convenience and necessity for authorization to construct, own, and operate, compression faculties and appurtenances thereto, to be located in Will County, Illinois and Macomb County, Michigan, as more fully set forth in the application. The new compressor stations would be constructed adjacent to its mainline facilities. The proposed Joliet Compressor Station will consist of one 15,000 horsepower (hp) compressor unit, while the Romeo Compressor Station would consist of two 15, 000 hp compressor units. Total cost of construction would be about $70.4 million. Vector states that the additional compression will serve to increase its mainline transport capacity of additional supplies of gas for delivery in the United States and/or to its Canadian border connection. Vector requests that the Commission grant certificate authorization no later than November 1, 2006 so that the facilities can be in service by November 1, 2007.

Concurrently, in Docket No. CP98-131-006, Vector filed an application to amend the Presidential Permit and Natural Gas Act Section 3 authority issued to Vector by the May 27, 1998 Commission Order on Rehearing, 87 FERC ¶ 61,225, as subsequently amended. Vector states that the proposed amendment would add to their extant authority to transport gas between the United States and Canada by increasing the maximum capacity permitted to flow through the existing border facilities from 1330 thousand cubic feet per day (MMcf/d) to 2300 MMcf/d. The higher maximum capacity is a result of the proposed system expansion in Docket No. CP06-29-000.

Questions concerning the application should be directed to Robert F. Smith Manager, Regulatory and Administration at Vector Pipeline L.P., 38705 Seven Mile Road, Suite 490, Livonia, Michigan 48152 or by calling (734) 462-0234, or facsimile (734) 462-0231; or Kim M. Clark, Esq. at John & Hengerer, 1200 17th Street, NW., Suite 600, Washington, DC 20036-3013 or by calling 202-429-8800 or facsimile 202-429-8805.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. However, a person does not have to intervene in order to have comments considered.

The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a) (1) (iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on January 3, 2006.

Magalie R. Salas,
Secretary.

[FR Doc. E5-7426 Filed 12-15-05; 8:45 am]

BILLING CODE 6717-01-P